DEPARTMENT OF ENERGY

Federal Energy Regulatory Commission

Combined Notice of Filings # 1

May 22, 2007.

Take notice that the Commission received the following electric corporate filings:

Docket Numbers: EC07-45-000.

Applicants: Morgan Stanley.

Description: Morgan Stanley's response to the Commission's letter issued on 2/26/07.

Filed Date: 5/15/2007.

Accession Number: 20070522-0213.

Comment Date: 5 p.m. Eastern Time on Tuesday, June 5, 2007.

Docket Numbers: EC07-91-000.

Applicants: General Electric Capital Corporation; LS Power Partners, LP; LS Power Partners II, L.P.; LS Power Equity Partners, LP; LS Power Equity Partners II, L.P.; LS Power Equity Partners Pie I, LP; LS Power Equity Partners II PIE, L.P.; Shady Hills Power Company, L.L.C.

Description: Joint application under section 203 of the FPA for authorization for indirect transfer of control of a public utility and for expedited consideration of General Electric Capital Corporation et al.

Filed Date: 5/11/2007.

Accession Number: 20070516-0187.

Comment Date: 5 p.m. Eastern Time on Friday, June 1, 2007.

Docket Numbers: EC07-92-000.

Applicants: DTE Energy Services, Inc.; DTE Georgetown Holdings, Inc.; DTE Georgetown, LP; Indianapolis Power & Light Company.

Description: DTE Energy Services, Inc, DTE Georgetown Holdings, Inc, DTE Georgetown, LP and Indianapolis Power & Light Co submit their application requesting authorization for the indirect disposition of an 80 MW gas turbine.

Filed Date: 5/18/2007.

Accession Number: 20070522-0319.

Comment Date: 5 p.m. Eastern Time on Friday, June 8, 2007.

Docket Numbers: EC07-93-000.

Applicants: NRG Energy, Inc.

Description: Application of NRG Energy Inc and its public utility subsidaries for Commission Approval in connection with a corporate restructuring etc.

Filed Date: 5/17/2007.

Accession Number: 20070522-0318.

Comment Date: 5 p.m. Eastern Time on Thursday, June 7, 2007.

Take notice that the Commission received the following exempt wholesale generator filings:

Docket Numbers: EG07-54-000.

Applicants: Stanton Wind Energy LLC.

Description: Stanton Wind Energy LLC submits its Notice of Self-Certification of Exempt Wholesale Generator Status.

Filed Date: 5/17/2007.

Accession Number: 20070522-0118.

Comment Date: 5 p.m. Eastern Time on Thursday, June 7, 2007.

Docket Numbers: EG07-55-000.

Applicants: Scurry County Wind II LLC.

Description: Scurry County Wind II LLC submits its Notice of Self-Certification of Exempt Wholesale Generator Status.

Filed Date: 5/17/2007.

Accession Number: 20070522-0117.

Comment Date: 5 p.m. Eastern Time on Thursday, June 7, 2007.

Take notice that the Commission received the following electric rate filings:

Docket Numbers: ER01-3121-011; ER03-478-016; ER06-200-009; ER07-254-001; ER03-1326-009; ER05-534-010; ER05-365-010; ER05-1262-007; ER06-1093-003; ER03-296-003; ER02-418-010; ER03-416-013; ER05-332-010; ER07-287-003; ER07-242-003; ER03-951-012; ER04-94-010; ER02-417-010; ER05-1146-010; ER05-481-010; ER07-240-004; ER07-195-001; ER02-2085-004.

Applicants: PPM Energy Inc.; Flying Cloud Power Partners, LLC; Flat Rock Windpower LLC; Flat Rock Windpower II LLC; Elk River Wind LLC; Eastern Desert Power LLC; Colorado Green Holdings LLC; Casselman Windpower, LLC; Big Horn Wind Project LLC; Klamath Energy LLC; Klamath Generation LLC; Klondike Wind Power LLC; Klondike Wind Power II; Klondike Wind Power III LLC; MinnDakota Wind LLC; Moraine Wind LLC; Mountain View Power Partners III; Phoenix Wind Power LLC; Shiloh I wind Project, LLC; Trimont Wind I LLC; Twin Buttes Wind LLC; Locust Ridge Wind Farm, LLC; Northern Iowa Windpower II, LLC.

Description: The Iberdrola Companies submit a notice of a change in status resulting from the sale of Scottish Power plc..

Filed Date: 5/14/2007.

Accession Number: 20070516-0177.

Comment Date: 5 p.m. Eastern Time on Monday, June 4, 2007.

Docket Numbers: ER02-2397-006; ER06-643-002; ER06-784-002; ER05-454-004; ER06-805-001; ER07-528-001; ER06-642-003; ER05-118-005; ER05-131-004; ER06-1446-002; ER03-796-006; ER07-527-001.

Applicants: Great Lakes Hydro America LLC; Bear Swamp Power Company LLC; Brookfield Energy Marketing Inc.; Brookfield Energy Marketing US LLC; Brookfield Power Piney & Deep Creek LLC; Carr Street Generating Station, L.P.; Erie Boulevard Hydropower, L.P.; Hawks Nest Hydro LLC; Katahdin Paper Company LLC; Longview Fibre Paper and Packaging, Inc.; Rumford Falls Hydro LLC.

Description: Notice of Change in Status of Bear Swamp Power Company LLC, et al.

Filed Date: 5/21/2007.

Accession Number: 20070521-5067.

Comment Date: 5 p.m. Eastern Time on Monday, June 11, 2007.

Docket Numbers: ER03-114-003; ER04-183-002.

Applicants: Great Bay Power Marketing, Inc.; Great Bay Hydro Corporation.

Description: Great Bay Power Marketing, Inc and Great Bay Hydro Corp submits an amendment to its 2/12/07 triennial market power analysis.

Filed Date: 5/11/2007.

Accession Number: 20070516-0018.

Comment Date: 5 p.m. Eastern Time on Friday, June 1, 2007.

Docket Numbers: ER05-1065-008.

Applicants: Entergy Services, Inc.

Description: Entergy Operating Companies submits revisions to the Available Flowgate Capability Process Manual, FERC Electric Tariff, Rate Schedule 1 etc in compliance with FERC's 4/24/06 Order et al.

Filed Date: 5/18/2007.

Accession Number: 20070522-0231.

Comment Date: 5 p.m. Eastern Time on Friday, June 8, 2007.

Docket Numbers: ER05-1178-010; ER05-1191-010.

Applicants: Gila River Power, L.P.; Union Power Partner, L.P.

Description: Gila River Power, LP et al submits this notice of non-material change in status relating to their upstream ownership structure pursuant to Section 35.27(c) of FERC's Regulations and Order 652.

Filed Date: 5/15/2007.

Accession Number: 20070517-0075.

Comment Date: 5 p.m. Eastern Time on Tuesday, June 5, 2007.

Docket Numbers: ER05-522-004; ER06-1382-004.

Applicants: Bluegrass Generation Company, L.L.C.

Description: Electric Refund Report (Compliance Only) of Bluegrass Generation Company, L.L.C.

Filed Date: 5/15/2007.

Accession Number: 20070515-5051.

Comment Date: 5 p.m. Eastern Time on Tuesday, June 5, 2007.

Docket Numbers: ER06-554-003.

Applicants: Virginia Electric and Power Company.

Description: PJM submit an Electric Refund Report detailing refunds from a Reactive Power settlement between Virginia Electric and Power Company, Old Dominion Electric Cooperative, and North Carolina Electric Membership Corporation.

Filed Date: 5/18/2007.

Accession Number: 20070518-5072.

Comment Date: 5 p.m. Eastern Time on Friday, June 8, 2007.

Docket Numbers: ER07-445-001.

Applicants: Duke Energy Indiana, Inc.

Description: Duke Energy Corp reports that on 4/26/07 Duke Energy Indiana, Inc and Indiana Municipal Power Agency executed a new power agreement to replace the Power Coordination Agreement, effective 6/1/07 under ER07-445.

Filed Date: 5/14/2007.

Accession Number: 20070516-0184.

Comment Date: 5 p.m. Eastern Time on Monday, June 4, 2007.

Docket Numbers: ER07-575-002.

Applicants: MidAmerican Energy Company.

Description: MidAmerican Energy Company submits Substitute Original Sheet 15 to FERC Electric Tariff, Second Revised Volume 8.

Filed Date: 5/15/2007.

Accession Number: 20070517-0068.

Comment Date: 5 p.m. Eastern Time on Tuesday, June 5, 2007.

Docket Numbers: ER07-577-001.

Applicants: Midwest Independent Transmission System.

Description: Xcel Energy Services, Inc on behalf of Northern States Power Company submits its response to FERC's 4/20/07 deficiency letter.

Filed Date: 5/18/2007.

Accession Number: 20070522-0226.

Comment Date: 5 p.m. Eastern Time on Friday, June 8, 2007.

Docket Numbers: ER07-585-002.

Applicants: WPS Niagara Generation, LLC.

Description: Integrys Energy Group submits a requests to withdraw Niagara Generation from the 4/20/07 Notice of Change in Status for Market-Based Rate Authority.

Filed Date: 5/15/2007.

Accession Number: 20070521-0580.

Comment Date: 5 p.m. Eastern Time on Tuesday, June 5, 2007.

Docket Numbers: ER07-626-001.

Applicants: American Electric Power Service Corp.

Description: American Electric Power Service Corp submits a revised tariff sheet to the Open Access Transmission Tariff, FERC Electric Tariff, Third Revised Volume 6 in compliance with FERC's 4/13/07 Order.

Filed Date: 5/14/2007.

Accession Number: 20070516-0179.

Comment Date: 5 p.m. Eastern Time on Monday, June 4, 2007.

Docket Numbers: ER07-671-001.

Applicants: Trigen-St. Louis Energy Corporation.

Description: Trigen-St Louis Energy Corp submits its revised FERC Electric Tariff, Original Volume 1.

Filed Date: 5/14/2007.

Accession Number: 20070516-0183.

Comment Date: 5 p.m. Eastern Time on Monday, June 4, 2007.

Docket Numbers: ER07-761-001.

Applicants: Fulcrum Energy Limited.

Description: Fulcrum Energy Limited submits an Amendment to Original Sheet 1 to FERC Electric Tariff, Original Volume 1.

Filed Date: 5/14/2007.

Accession Number: 20070517-0073.

Comment Date: 5 p.m. Eastern Time on Monday, June 4, 2007.

Docket Numbers: ER07-799-001; EL07-61-000.

Applicants: Norwalk Power, LLC.

Description: Norwalk Power, LLC's supplemental information and corrects computational errors contained in certain exhibits filed in conjunction with the 4/26/07, unexecuted cost-of-service agreement with NRG Power Marketing, Inc. et al.

Filed Date: 5/17/2007.

Accession Number: 20070522-0217.

Comment Date: 5 p.m. Eastern Time on Thursday, June 7, 2007.

Docket Numbers: ER07-876-000.

Applicants: Chevron Coalinga Energy Company.

Description: Chevron Coalinga Energy Co. submits notice of succession and tariff amendments to adopt and amend the market-based rate tariff of Texaco Natural Gas, Inc.

Filed Date: 5/9/2007.

Accession Number: 20070514-0122.

Comment Date: 5 p.m. Eastern Time on Wednesday, May 30, 2007.

Docket Numbers: ER07-890-000.

Applicants: Waterbury Generation, LLC.

Description: Waterbury Generation, LLC request for Expedited Consideration and Temporary Waiver of Qualification Process Reimbursement Deposit Due Date under Market Rule 1.

Filed Date: 5/14/2007.

Accession Number: 20070515-0334.

Comment Date: 5 p.m. Eastern Time on Monday, June 4, 2007.

Docket Numbers: ER07-891-000.

Applicants: PJM Interconnection, L.L.C.

Description: PJM Interconnection, L.L.C. submits revisions to the chart in Schedule 2 to adjust downward the zonal revenue requirements of Reliant Energy Electric Solutions, LLC.

Filed Date: 5/14/2007.

Accession Number: 20070515-0333.

Comment Date: 5 p.m. Eastern Time on Monday, June 4, 2007.

Docket Numbers: ER07-898-000.

Applicants: Baltimore Gas and Electric Company.

Description: Baltimore Gas and Electric Company submits certain revised tariff sheets (in Appendix A) to FERC Open Access Transmission Tariff pursuant to Order 668 etc.

Filed Date: 5/15/2007.

Accession Number: 20070517-0074.

Comment Date: 5 p.m. Eastern Time on Tuesday, June 5, 2007.

Docket Numbers: ER07-899-000.

Applicants: Aquila, Inc.

Description: Aquila, Inc. submits Amendatory Agreement 4 to the Multiple Interconnection & Transmission Contract w/Missouri Public Service and Kansas City Power & Light Company etc.

Filed Date: 5/15/2007.

Accession Number: 20070517-0072.

Comment Date: 5 p.m. Eastern Time on Tuesday, June 5, 2007.

Docket Numbers: ER07-900-000.

Applicants: Aquila, Inc.

Description: Aquila, Inc. submits Amendatory Agreement 6 to the Agreement for Interchange of Power & Interconnected Operation w/Missouri Public Service and Associated Electric Cooperative, Inc. etc.

Filed Date: 5/15/2007.

Accession Number: 20070517-0071.

Comment Date: 5 p.m. Eastern Time on Tuesday, June 5, 2007.

Docket Numbers: ER07-901-000.

Applicants: Duquesne Light Company.

Description: Duquesne Light Company submits First Revised Sheet 314H.01 et al. to FERC Electric Tariff, Sixth Revised Volume 1, to become effective 6/1/07.

Filed Date: 5/15/2007.

Accession Number: 20070517-0070.

Comment Date: 5 p.m. Eastern Time on Tuesday, June 5, 2007.

Docket Numbers: ER07-902-000.

Applicants: Tenaska Alabama Partners, L.P.

Description: Tenaska Alabama Partners, LP submits Rate Schedule FERC 2, under which specifies its revenue requirement for Reactive Supply and Voltage Control from Generation Sources Service etc.

Filed Date: 5/16/2007.

Accession Number: 20070517-0069.

Comment Date: 5 p.m. Eastern Time on Wednesday, June 6, 2007.

Docket Numbers: ER07-905-000.

Applicants: Sierra Pacific Resources Operating Company.

Description: Nevada Power Company & Sierra Pacific Power Co. submits proposed revisions to the Sierra Pacific Resources Operating Companies' Open Access Transmission Tariff.

Filed Date: 5/16/2007.

Accession Number: 20070521-0158.

Comment Date: 5 p.m. Eastern Time on Wednesday, June 6, 2007.

Docket Numbers: ER07-906-000.

Applicants: ISO New England Inc.

Description: ISO New England Inc. submits its Capital Projects Report and schedule of the unamortized costs of its funded capital expenditures for the quarter ending 3/31/07.

Filed Date: 5/15/2007.

Accession Number: 20070521-0151.

Comment Date: 5 p.m. Eastern Time on Tuesday, June 5, 2007.

Docket Numbers: ER07-912-000.

Applicants: Potomac Electric Power Company.

Description: Potomac Electric Power Co submits First Revised Sheet 310A et al. to FERC Electric Tariff, Sixth Revised Volume 1, effective 6/1/07.

Filed Date: 5/15/2007.

Accession Number: 20070521-0630.

Comment Date: 5 p.m. Eastern Time on Tuesday, June 5, 2007.

Docket Numbers: ER07-913-000.

Applicants: Atlantic City Electric Company.

Accession Number: 20070521-0630.

Description: Atlantic City Electric Co submits First Revised Sheet 298A et al. to FERC Electric Tariff, Sixth Revised Volume 1, effective 6/1/07.

Filed Date: 5/15/2007.

Accession Number: 20070521-0631.

Comment Date: 5 p.m. Eastern Time on Tuesday, June 5, 2007.

Docket Numbers: ER07-914-000.

Applicants: Delmarva Power & Light Company.

Description: Delmarva Power & Light Company submits First Revised Sheet 300E et al. to FERC Electric Tariff, Sixth Revised Volume 1, pursuant to FERC's 12/30/05 issued Order 668, effective 6/1/07.

Filed Date: 5/15/2007.

Accession Number: 20070521-0632.

Comment Date: 5 p.m. Eastern Time on Tuesday, June 5, 2007.

Docket Numbers: ER07-915-000; EL06-109.

Applicants: Duquesne Light Company.

Description: Duquesne Light Company submits an informational filing of 2007 Formula Rate Update pursuant to the Commission's 2/6/07 Order.

Filed Date: 5/15/2007.

Accession Number: 20070521-0621.

Comment Date: 5 p.m. Eastern Time on Tuesday, June 5, 2007.

Docket Numbers: ER07-916-000; ER07-917-000.

Applicants: KGEN Southaven LLC; KGEN New Albany LLC

Description: KGen Southaven, LLC and KGEN New Albany, LLC submits Notices of Cancellation of First Revised Sheet 1 to FERC Electric Tariff, Original Volume 1.

Filed Date: 5/18/2007.

Accession Number: 20070522-0228.

Comment Date: 5 p.m. Eastern Time on Friday, June 8, 2007.

Docket Numbers: ER07-918-000.

Applicants: AP Holdings Southaven, LLC.

Description: AP Holdings Southaven, LLC notifies the Commission that, as a result of a name change they have succeeded BTEC Southaven, LLC.

Filed Date: 5/18/2007.

Accession Number: 20070522-0230.

Comment Date: 5 p.m. Eastern Time on Friday, June 8, 2007.

Docket Numbers: ER07-921-000.

Applicants: ISO New England, Inc.

Description: ISO New England, Inc. submits its Settlement Agreement and Explanatory Statement in Support of the Settlement Agreement and Market Rule 1 Revisions etc.

Filed Date: 5/18/2007.

Accession Number: 20070523-0023.

Comment Date: 5 p.m. Eastern Time on Monday, June 4, 2007.

Take notice that the Commission received the following electric securities filings:

Docket Numbers: ES07-37-000.

Applicants: Rockland Electric Company.

Description: Application under Section 204 of Rockland Electric Co for authorization to issue and sell short-term debt not in excess of $30 million at any one time outstanding.

Filed Date: 5/14/2007.

Accession Number: 20070514-5019.

Comment Date: 5 p.m. Eastern Time on Friday, May 25, 2007.

Take notice that the Commission received the following public utility holding company filings:

Docket Numbers: PH07-3-001.

Applicants: Enbridge Inc.

Description: FERC Form 65 B—Waiver Notification and Notice of Material Change in Facts of Enbridge Inc.

Filed Date: 5/14/2007.

Accession Number: 20070514-5164.

Comment Date: 5 p.m. Eastern Time on Monday, June 4, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-10551 Filed 5-31-07; 8:45 am]

BILLING CODE 6717-01-P